ENVIRONMENTAL PROTECTION AGENCY

40 CFR Parts 174 and 180

[EPA-HQ-OPP-2021-0088; FRL-8792-06-OCSPP]

Receipt of Pesticide Petitions Filed for Residues of Pesticide Chemicals in or on Various Commodities (December 2021)

AGENCY: Environmental Protection Agency (EPA).

ACTION: Notices of filing of petitions and request for comment.

SUMMARY: This document announces the Agency's receipt of initial filings of pesticide petitions requesting the establishment or modification of regulations for residues of pesticide chemicals in or on various commodities.

DATES: Comments must be received on or before January 20, 2022.

ADDRESSES: Submit your comments, identified by docket identification (ID) number and the pesticide petition (PP) of interest as shown in the body of this document, online at http://www.regulations.gov. Follow the online instructions for submitting comments. Do not submit electronically any information you consider to be Confidential Business Information (CBI) or other information whose disclosure is restricted by statute. Additional instructions on commenting or visiting the docket, along with more information about dockets generally, is available at http://www.epa.gov/dockets.

Due to the public health concerns related to COVID-19, the EPA/DC and Reading Room is closed to visitors with limited exceptions. The staff continues to provide remote customer service via email, phone, and webform. For the latest status information on the EPA/DC and docket access, visit https://www.epa.gov/dockets.

FOR FURTHER INFORMATION CONTACT: Marietta Echeverria, Registration Division (7505P), main telephone number: (703) 305-7090, email address: RDFRNotices@epa.gov; or Charles Smith, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Notice of Filing—Amended Tolerances for Non-Inerts

PP 1F8921. (EPA-HQ-OPP-2021-0650). Spring Regulatory Sciences on behalf of Bedoukian Research, Inc., 21 Finance Drive, Danbury, CT 06810-4192, requests to amend an exemption from the requirement of a tolerance in 40 CFR 180.1124 for residues arthropod pheromones, used as insect attractants and/or repellents in or on all food commodities, when not applied at greater than 150 grams of active ingredient per acre per year. The petitioner believes no analytical method is needed because EPA has previously determined that an exemption was appropriate for these compounds based upon generally low toxicity, high volatility, the low environmental and human exposure expected from pheromones when used in retrievably sized polymeric matrix dispensers, and the low application rates and limits on acreage. Contact: BPPD.

B. New Tolerance Exemptions for Inerts (Except PIPS)

PP IN-11646. (EPA-HQ-OPP-2021-0840). Spring Regulatory Sciences (6620 Cypresswood Dr, Suite 250, Spring, TX 77379), on behalf of Stepan Company (22 W Frontage Rd., Northfield, IL 60093), requests to establish an exemption from the requirement of a tolerance for Oxirane, 2-(phenoxymethyl)-, polymer with oxirane, ether with 2,2′,2″-nitrilotris[ethanol] (3:1), diblock (CAS RN 2307555-89-9), with a minimum number average molecular weight of 5,300 daltons, when used as an inert ingredient (dispersing agent) in pesticide formulations under 40 CFR 180.960. The petitioner believes no analytical method is needed because it is not required for an exemption from the requirement of a tolerance. Contact: RD.

C. New Tolerance Exemptions for Non-Inerts (Except PIPS)

1. PP 0F8867. (EPA-HQ-OPP-2020-0700). Agrauxine Corp., 375 Bonnewitz Avenue, Van Wert, OH 45891, requests to establish an exemption from the requirement of a tolerance in 40 CFR part 180 for residues of the fungicide and nematicide, Trichoderma atroviride strain K5 NRRL B-50520 in or on food commodities. The petitioner believes no analytical method is needed because, if Trichoderma atroviride strain K5 NRRL B-50520 is used as proposed, no residues of toxicological concern would result. Contact: BPPD.

2. PP 1F8920. (EPA-HQ-OPP-2021-0675). Biotalys NV, Buchtenstraat 11, 9051 Sint-Denijs-Westrem, Belgium, requests to establish a temporary exemption from the requirement of a tolerance in 40 CFR part 180 for residues of the fungicide ASFBIOF01-02 in or on grape and strawberry. The petitioner believes no analytical method is needed because the mammalian toxicity studies are sufficient to support the conclusion that there are no foreseeable human or domestic health hazards likely to arise from the use of ASFBIOF01-02 in food crop commodities; therefore, the requirement to provide practical methods for removing residues from these agricultural commodities or processed foods is not applicable. Contact: BPPD.

D. New Tolerances for Non-Inerts

PP 0E8891. (EPA-HQ-OPP-2021-0520). Bayer CropScience LP, 800 N Lindbergh Blvd., St. Louis, MO 263167 requests to establish a tolerance in 40 CFR part 180.589 for residues of the fungicide propamocarb hydrochloride in or on onion, bulb, crop subgroup 3-07A at 2 parts per million (ppm), leek at 30 ppm, and kale at 20 ppm. Analytical methods gas/liquid chromatography and N-FID or MSD are used to measure and evaluate the chemical propamocarb hydrochloride. This supersedes the paragraph published in the Federal Register on September 22, 2021 (86 FR 52624 FRL-8792-03-OCSPP). Contact: RD.

Authority: 21 U.S.C. 346a.

Dated: December 13, 2021.
Delores Barber,
Director, Information Technology and Resources Management Division, Office of Program Support.

[FR Doc. 2021-27619 Filed 12-20-21; 8:45 am]

BILLING CODE 6560-50-P